DEPARTMENT OF TRANSPORTATION

Pipeline and Hazardous Materials Safety Administration

[Docket ID PHMSA-2007-0056]

Pipeline Safety: Information Collection Activities Under Office of Management and Budget Review

AGENCY: Pipeline and Hazardous Materials Safety Administration (PHMSA), DOT.

ACTION: Notice and request for comments.

SUMMARY: In compliance with the Paperwork Reduction Act of 1995, this notice announces that the Information Collection Requests (ICR) abstracted below will be forwarded to the Office of Management and Budget (OMB) for review and comments. The ICRs describe the nature of the information collections and their expected burden. PHMSA published Notices in the Federal Register with 60-day comment periods soliciting comments on these collections of information. PHMSA did not receive any substantive comments pertaining to the renewal of these information collections.

DATES: Submit comments on or before June 9, 2008.

ADDRESSES: Send comments regarding the burden estimate, including suggestions for reducing the burden, to OMB, Attention: Desk Officer for PHMSA, 725 17th Street, NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Barbara Betsock, U.S. Department of Transportation, Pipeline and Hazardous Materials Safety Administration, PHP-30, 1200 New Jersey Avenue, SE., East Building, 2nd Floor, Washington, DC 20590-0001, Telephone (202) 366-4595.

SUPPLEMENTARY INFORMATION: Section 1320.8(d), Title 5, Code of Federal Regulations requires PHMSA to provide interested members of the public and affected agencies an opportunity to comment on information collection and recordkeeping requests. This notice identifies information collection requests that PHMSA will be submitting to OMB for renewal and extension. These information collections are contained in the pipeline safety regulations at 49 CFR parts 190-199. PHMSA has revised burden estimates, where appropriate, to reflect current reporting levels or adjustments based on changes in proposed or final rules published since the information collections were last approved. The following information is provided for each information collection: (1) Title of the information collection, including former title if a change is being made; (2) OMB control number; (3) abstract of the information collection activity; (4) description of affected public; (5) estimate of total annual reporting and recordkeeping burden; and (6) frequency of collection. PHMSA will request a three-year term of approval for each information collection activity and, when approved by OMB, publish notice of the approval in the Federal Register.

PHMSA published a Notice in the Federal Register with a 60-day comment period soliciting comments on the following collection of information (73 FR 5906; January 31, 2008) under Docket ID PHMSA-2007-0056. PHMSA again requests comments on this information collection:

Title: Pipeline Safety: Public Awareness Program.

OMB Control Number: 2137-0622.

Type of Request: Renewal of a currently approved information collection.

Abstract: Pipeline operators are required to implement a written continuing public education program that follows the guidance provided in the American Petroleum Institute's Recommended Practice 1162. (49 CFR 192.616 and 195.440). Upon request, an operator must submit its completed program to PHMSA or, in the case of an intrastate pipeline, the appropriate State agency. The operator must also make its program documentation and evaluation results available for periodic review by appropriate regulatory agencies.

Estimated number of respondents: 22,500.

Estimated annual burden hours: 517,480 hours.

Frequency of collection: On occasion.

PHMSA published a Notice in the Federal Register (73 FR 10509; February 27, 2008) with a 60-day comment period soliciting comments on the following collections of information under Docket ID PHMSA-2007-0056. PHMSA again requests comments on these information collections:

Title: Pipeline Safety: Recordkeeping and Accident Reporting for Hazardous Liquid Pipeline.

OMB Control Number: 2137-0047.

Type of Request: Extension of a currently approved information collection.

Abstract: Operators of hazardous liquid pipelines are required under 49 CFR part 195 to maintain records, make reports, and provide information to PHMSA and State pipeline safety agencies concerning the operations of their pipelines. The information aids Federal and State pipeline safety inspectors in conducting compliance inspections and investigating accidents.

Estimated number of respondents: 200.

Estimated annual burden hours: 51,011 hours.

Frequency of collection: Annually and on occasion.

Title: Pipeline Safety: Recordkeeping for Liquefied Natural Gas Facilities.

OMB Control Number: 2137-0048.

Type of Request: Renewal of a currently approved information collection.

Abstract: Operators of liquefied natural gas facilities are required under 49 CFR part 193 to maintain records, make reports, and provide information to PHMSA and State pipeline safety agencies concerning the operations of their pipelines. The information aids Federal and State pipeline safety inspectors in conducting compliance inspections and investigating incidents.

Estimated number of respondents: 101.

Estimated annual burden hours: 12,120 hours.

Frequency of collection: On occasion.

Title: Pipeline Safety: Recordkeeping for Gas Pipelines.

OMB Control Number: 2137-0049.

Type of Request: Renewal of a currently approved information collection.

Abstract: Operators of gas pipelines are required under 49 CFR part 192 to maintain records, make reports, and provide information to PHMSA and State pipeline safety agencies concerning the operations of their pipelines. The information aids Federal and State pipeline safety inspectors in conducting compliance inspections and investigating incidents.

Estimated number of respondents: 22,300.

Estimated annual burden hours: 940,454 hours.

Frequency of collection: On occasion.

Title: Pipeline Safety: Gas and Hazardous Liquid Pipeline Safety Program Certifications.

OMB Control Number: 2137-0584.

Type of Request: Renewal of a currently approved information collection.

Abstract: A State agency participating in the pipeline safety program must maintain records in order to demonstrate the agency is properly monitoring the operations of pipeline operators in the State. The agency submits a certificate to PHMSA annually verifying compliance. PHMSA uses the information to evaluate the State's eligibility for Federal grants.

Estimated number of respondents: 67.

Estimated annual burden hours: 3,820 hours.

Frequency of collection: Annually.

Title: Pipeline Safety: Integrity Management in High Consequence Areas for Operators with Less than 500 Miles of Hazardous Liquid Pipeline.

OMB Control Number: 2137-0605.

Type of Request: Renewal of a currently approved information collection.

Abstract: The pipeline integrity management regulations at 49 CFR part 195 require operators of less than 500 miles of hazardous liquid pipeline to have a program for integrity testing and evaluation of their pipeline in high consequence areas. These are environmentally sensitive and populated areas in which a pipeline failure would have high consequences. Operators must maintain records of the testing and evaluation. The information aids Federal and State pipeline safety inspectors in conducting compliance inspections and investigating accidents.

Estimated number of respondents: 132.

Estimated annual burden hours: 267,960 hours.

Frequency of collection: Annually and on occasion.

Issued in Washington, DC on May 1, 2008.
Barbara Betsock,
Acting Director of Regulations.

[FR Doc. E8-10413 Filed 5-8-08; 8:45 am]

BILLING CODE 4910-60-P